DEPARTMENT OF ENERGY

Federal Energy Regulatory Commission

[Project No. 3409-032]

Boyne USA, Inc.; Notice of Meeting To Discuss FWS Status Updates for The Boyne Hydroelectric Project

a. Date and Time of Meeting: January 12, 2023, 1:00 p.m. EST.

b. Place: Virtual/Microsoft Teams.

c. FERC Contact: Laura Washington, Laura.Washington@ferc.gov.

d. Purpose of Meeting: Discuss with the U.S. Fish and Wildlife Service the change in federal status ¹ of the northern long-eared bat (NLEB) in regard to the relicensing of Boyne Hydroelectric Project (Boyne Project), P-3409-032.

¹ Endangered Species Status for NLEB, Federal Register: https://www.federalregister.gov/documents/2022/11/30/2022-25998/endangered-and-threatened-wildlife-and-plants-endangered-species-status-for-northern-long-eared-bat.

e. Proposed Agenda: Options for NLEB protection at the Boyne Project with consideration of the reclassification of northern long-eared bat that was published in the Federal Register.

f. A summary of the meeting will be prepared and filed in the Commission's public file for the project.

g. All local, state, and federal agencies, Indian tribes, and other interested parties are invited to participate. Please notify Laura Washington at Laura.Washington@ferc.gov or (202) 502-6072 by January 9, 2023, if you plan on attending the meeting or have any questions.

Dated: December 8, 2022.
Kimberly D. Bose,
Secretary.

[FR Doc. 2022-27122 Filed 12-13-22; 8:45 am]

BILLING CODE 6717-01-P